DEPARTMENT OF ENERGY

Federal Energy Regulatory Commission

[Docket No. RP00-249-001

Transwestern Pipeline Company; Notice of Proposed Changes in FERC Gas Tariff

April 28, 2000.

Take notice that on April 21, 2000, Transwestern Pipeline Company (Transwestern) tendered for filing to become part of its FERC Gas Tariff, Second Revised Volume No. 1, the following tariff sheet, proposed to become effective on May 15, 2000:

Substitute Original Sheet No.97

On April 21, 2000, Transwestern filed in this Docket a proposal to add a provision to the General Terms and Conditions allowing Transwestern to enter into transportation agreements with Public Service Company of New Mexico (PNM) for the purpose of providing transportation service under Transwestern's tariff. The reason for this filing is to resubmit Sheet No. 97 as the Sheet No. 97 incorrectly states the Account Number where costs would be separately recorded. The cost will be separately recorded in Account No. 858.

Transwestern further states that copies of the filing have been mailed to each of its customers and interested State Commissions.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-10997 Filed 5-2-00; 8:45 am]

BILLING CODE 6717-01-M